DEPARTMENT OF LABOR

Employment and Training Administration

[TA-W-51,274]

RFD Publications, LLC, Including Leased Workers of Sirius, Wilsonville, OR; Amended Certification Regarding Eligibility to Apply for Worker Adjustment Assistance

In accordance with section 223 of the Trade Act of 1974 (19 U.S.C. 2273) the Department of Labor issued a Certification of Eligibility to Apply for Worker Adjustment Assistance on April 23, 2003, applicable to workers of RFD Publications, LLC, Wilsonville, Oregon. The notice was published in the Federal Register on May 7, 2003 (68 FR 24504).

At the request of the petitioners, the Department reviewed the certification for workers of the subject firm. The workers were engaged in the production of advertising inserts/flyers until the company closed in April 2003.

Information shows that RFD Publications, LLC, leased workers of Sirius that were engaged in employment related to the production of advertising inserts/flyers at the Wilsonville, Oregon plant.

Accordingly, the Department is amending the certification to properly reflect this matter.

The intent of the Department's certification is to include all workers of RFD Publications, LLC, who were adversely affected by increased imports.

The amended notice applicable to TA-W-51,274 is hereby issued as follows:

All workers of RFD Publications, LLC, Wilsonville, Oregon, and leased workers of Sirius engaged in employment related to the production of advertising inserts/flyers at RFD Publications, LLC, Wilsonville, Oregon, who became totally or partially separated from employment on or after March 19, 2002, through April 23, 2005, are eligible to apply for adjustment assistance under Section 223 of the Trade Act of 1974.

Signed at Washington, DC, this 9th day of July, 2003.
Linda G. Poole,
Certifying Officer, Division of Trade Adjustment Assistance.

[FR Doc. 03-18825 Filed 7-23-03; 8:45 am]

BILLING CODE 4510-30-P